DEPARTMENT OF ENERGY

Federal Energy Regulatory Commission

[Docket No. AD14-1-000]

Zero Rate Reactive Power Rate Schedules; Notice Allowing Post-Workshop Comments

On December 11, 2013, a Commission staff-led workshop explored the mechanics of filing reactive power rate schedules for which there is no compensation.¹ Interested persons are invited to file written comments focused on the mechanics of filing reactive power rate schedules for which there is no compensation.

¹ The workshop was held in response to the Commission's directive in Chehalis Power Generating, L.P., Docket No. ER05-1056-007. Chehalis Power Generating, L.P., 145 FERC ¶ 61,052 (2013).

Comments should be filed with the Commission in this docket, Docket No. AD14-1-000, on or before 5:00 p.m. Eastern Time on January 24, 2014.

A link to the workshop webcast can be found here: http://stream.capitolconnection.org/capcon/ferc/ferc.htm.

Dated: December 17, 2013.
Nathaniel J. Davis, Sr.,
Deputy Secretary.

[FR Doc. 2013-30547 Filed 12-23-13; 8:45 am]

BILLING CODE 6717-01-P